SOCIAL SECURITY ADMINISTRATION

20 CFR Parts 404 and 416

[Docket No. SSA 2009-0075]

RIN 0960-AH15

Withdrawal of Certain Proposed Rules

AGENCY: Social Security Administration.

ACTION: Proposed rules; withdrawal.

SUMMARY: We are withdrawing seven proposed rules we published in the Federal Register that we no longer plan to pursue.

DATES: The proposed rules identified in this document are withdrawn as of November 24, 2009.

FOR FURTHER INFORMATION CONTACT: Richard Bresnick, Social Insurance Specialist, Office of Regulations, Social Security Administration, 6401 Security Boulevard, Baltimore, MD 21235-6401. Call (410) 965-1758 for information about this notice. For information on eligibility or filing for benefits, call our national toll-free number 1 (800) 772-1213 or TTY 1 (800) 325-0778. You may also contact Social Security Online at http://www.socialsecurity.gov.

SUPPLEMENTARY INFORMATION:

Electronic Version

The electronic file of this document is available on the date of publication in the Federal Register at http://www.gpoaccess.gov/fr/index.html.

Background

Over the years, we have published in the Federal Register several notices of proposed rulemaking (NPRMs) for which we never issued final rules, and we have decided not to pursue final rules on these NPRMs at this time. We have made some of the changes we proposed in these NPRMs in the context of other rulemaking proceedings; in other cases, we have decided not to pursue the policy we proposed in the NPRM. Consequently, as part of a comprehensive review of our regulatory processes, we are withdrawing the seven NPRMs listed below.

NPRMs Being Withdrawn

Supplemental Security Income for the Aged, Blind, and Disabled; Suspensions, Terminations, and Advance Notice of Unfavorable Determination (51 FR 17057, May 8, 1986) (SSA-31P).

Disability Insurance and Supplemental Security Income; Nonpayment Policy for Consultative Examination Appointments That Are Not Kept (53 FR 39487, October 7, 1988) (SSA-181P).

Reduction for Receipt of Government Pension (54 FR 51036, December 12, 1989) (SSA-188P).

Supplemental Security Income for the Aged, Blind, and Disabled (55 FR 33922, August 20, 1990) (SSA-180P).

Disability Insurance and Supplemental Security Income for the Aged, Blind, and Disabled; Determinations of Disability—Determining State Agency Substantial Failure to Comply with Federal Rules (56 FR 11025, March 14, 1991) (SSA-206P).

Administrative Review Process; Prehearing and Posthearing Conferences (65 FR 38796, June 22, 2000) (SSA-778P).

New Disability Claims Process (66 FR 5494, January 19, 2001) (SSA-816P).

Dated: October 26, 2009.
Michael J. Astrue,
Commissioner of Social Security.

[FR Doc. E9-28140 Filed 11-23-09; 8:45 am]

BILLING CODE 4191-02-P